DEPARTMENT OF JUSTICE

Drug Enforcement Administration

[Docket No. DEA-551]

Importer of Controlled Substances Application: Epic Pharma, LLC

ACTION: Notice of application.

DATES: Registered bulk manufacturers of the affected basic classes, and applicants therefore, may file written comments on or objections to the issuance of the proposed registration on or before December 23, 2019. Such persons may also file a written request for a hearing on the application on or before December 23, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on September 13, 2019, Epic Pharma, LLC, 227-15 North Conduit Avenue, Laurelton, New York 11413, applied to be registered as an importer of the following basic class of controlled substance:

Controlled substance | Drug code | Schedule
Methadone | 9250 | II

The company plans to import the listed controlled substance for research and analytical purposes.

Dated: November 8, 2019.
William T. McDermott,
Assistant Administrator.

[FR Doc. 2019-25406 Filed 11-21-19; 8:45 am]

BILLING CODE 4410-09-P